FEDERAL COMMUNICATIONS COMMISSION

47 CFR Part 73

[DA 03-431; MM Docket No. 01-254; RM-10264; RM-10375; RM-10376]

Radio Broadcasting Services; Atoka, Haileyville and Clayton, OK

AGENCY: Federal Communications Commission.

ACTION: Final rule.

SUMMARY: This document dismisses a petition for rule making filed at the request of Maurice Salsa (“Salsa”) proposing the allotment of FM Channel 290A at Atoka, Oklahoma, as that community's second local FM transmission service (RM-10264). See 66 FR 52733, October 17, 2001. In response to a counterproposal filed on behalf of Keystone Broadcasting, this document allots Channel 290A to Haileyville, Oklahoma, as that community's first local aural transmission service (RM-10375). Additionally, this document dismisses an interrelated petition for rule making filed by Linda Crawford (“Crawford”) requesting the allotment of FM Channel 289A to Clayton, Oklahoma, as that community's first local aural transmission service (RM-10376). Salsa and Crawford withdrew their interests at Atoka and Clayton, Oklahoma, respectively, in this proceeding and were dismissed. Coordinates used for Channel 290A at Haileyville, Oklahoma, are 34-56-29 NL and 95-34-20 WL, representing a site restriction 9.7 kilometers (6.0 miles) north of the community. With this action, this docketed proceeding is terminated.

DATES: Effective April 4, 2003. A filing window for Channel 290A at Haileyville, Oklahoma, will not be opened at this time. Instead, the issue of opening the allotment for auction will be addressed by the Commission in a subsequent Order.

ADDRESSES: Federal Communications Commission, 445 12th Street, SW., Washington, DC 20554.

FOR FURTHER INFORMATION CONTACT: Nancy Joyner, Media Bureau, (202) 418-2180.

SUPPLEMENTARY INFORMATION: This is a synopsis of the Commission's Report and Order, MM Docket No. 01-254, adopted February 12, 2003, and released February 18, 2003. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Oklahoma, is amended by adding Haileyville, Channel 290A.

Federal Communications Commission.
John A. Karousos,
Assistant Chief, Audio Division, Media Bureau.

[FR Doc. 03-5337 Filed 3-7-03; 8:45 am]

BILLING CODE 6712-01-P